SMALL BUSINESS ADMINISTRATION

[Disaster Declaration # 12242 and # 12243]

Kentucky Disaster Number KY-00035

AGENCY: U.S. Small Business Administration.

ACTION: Amendment 1.

SUMMARY: This is an amendment of the Presidential declaration of a major disaster for the State of Kentucky (FEMA-1925-DR), dated 07/23/2010.

Incident: Severe Storms, Flooding, and Mudslides.

Incident Period: 07/17/2010 and continuing through 07/30/2010.

DATES: Effective Date: 07/30/2010.

Physical Loan Application Deadline Date: 09/21/2010.

EIDL Loan Application Deadline Date: 04/25/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Kentucky, dated 07/23/2010 is hereby amended to establish the incident period for this disaster as beginning 07/17/2010 and continuing through 07/30/2010.

All other information in the original declaration remains unchanged.

(Catalog of Federal Domestic Assistance Numbers 59002 and 59008)

James E. Rivera,
Associate, Administrator for Disaster Assistance.

[FR Doc. 2010-19503 Filed 8-6-10; 8:45 am]

BILLING CODE 8025-01-P